FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date/reissued
4153N | Coda International, Inc. 239 New Road, Bldg. #A Rm. 103 Parsippany, NJ 07054 | August 19, 2001.
16987F | TAT International, Inc. 41-79 Main Street Flushing, NY 11355 | June 14, 2001.
13709N | PAC West Trading And Transport Inc. dba Pacwest Transport 2531 W. 237th Street, Suite 122 Torrance, CA 90505 | June 22, 2001.
4186N | Hanmi Shipping, Inc. 619 Thomas Drive Bensenville, IL 60106 | August 20, 2001.

Sandra L. Kusumoto,
Director, Bureau of Consumer Complaints and Licensing.

[FR Doc. 01-25560 Filed 10-10-01; 8:45 am]

BILLING CODE 6730-01-P